DEPARTMENT OF THE INTERIOR

Bureau of Land Management

[MT-090-1430-ET; MTM 89170]

Public Land Order No. 7643; Extension of Public Land Order No. 7464; Montana

AGENCY: Bureau of Land Management, Interior.

ACTION: Public land order.

SUMMARY: This order extends Public Land Order No. 7464 for an additional 5-year period. This extension is necessary to continue to protect reclamation of the Zortman-Landusky mining area.

EFFECTIVE DATE: October 5, 2005.

FOR FURTHER INFORMATION CONTACT: Tami Lorenz, BLM Montana State Office, 406-896-5053 or Sandy Ward, BLM Montana State Office, 5001 Southgate Drive, P.O. Box 36800, Billings, Montana, 59107-6800, 406-896-5052.

SUPPLEMENTARY INFORMATION: A copy of the original withdrawal order, Public Land Order No. 7464, is available from the BLM Montana State Office at the address stated above.

Order

By virtue of the authority vested in the Secretary of the Interior by Section 204 of the Federal Land Policy and Management Act of 1976, 43 U.S.C. 1714 (2000), it is ordered as follows:

1. Public Land Order No. 7464 (65 FR 59463, October 5, 2000), which withdrew 3,530.62 acres of public land from surface entry and mining to protect the Zortman-Landusky Mine Reclamation Site, is hereby extended for an additional 5-year period.

2. Public Land Order 7464 will expire on October 4, 2010, unless, as a result of a review conducted prior to the expiration date pursuant to Section 204(f) of the Federal Land Policy and Management Act of 1976, 43 U.S.C. 1714(f) (2000), the Secretary determines that the withdrawal shall be extended.

Authority: 43 CFR 2310.4.

Dated: August 10, 2005.
P. Lynn Scarlett,
Assistant Secretary—Policy, Management and Budget.

[FR Doc. 05-16871 Filed 8-24-05; 8:45 am]

BILLING CODE 4310-DN-P